DEPARTMENT OF TRANSPORTATION

Federal Aviation Administration

Ninth Meeting: RTCA Special Committee 227, Standards of Navigation Performance

AGENCY: Federal Aviation Administration (FAA), U.S. Department of Transportation (DOT).

ACTION: Meeting Notice of RTCA Special Committee 227, Standards of Navigation Performance.

SUMMARY: The FAA is issuing this notice to advise the public of the ninth meeting of the RTCA Special Committee 227, Standards of Navigation Performance.

DATES: The meeting will be held March 17-21, 2014 from 9:00 a.m.-5:00 p.m.

ADDRESSES: The meeting will be held at Eurocae Headquarters, 102 Rue Etienne Dolet, 92240 Malakoff, France.

FOR FURTHER INFORMATION CONTACT: The RTCA Secretariat, 1150 18th Street NW., Suite 910, Washington, DC 20036, or by telephone at (202) 330-0662 or (202) 833-9339, fax at (202) 833-9434, or Web site at http://www.rtca.org. In addition, Sophie Bousquet may be contacted directly at email: sbousquet@rtca.org.

SUPPLEMENTARY INFORMATION: Pursuant to section 10(a)(2) of the Federal Advisory Committee Act (Pub. L. 92-463, 5 U.S.C., App.), notice is hereby given for a meeting of Special Committee 227. The agenda will include the following:

March 17-21

• Welcome/Introductions/Administrative Remarks

• Agenda Overview

• Overview of Planned Work Program for the Week

○ Plan for MASPS Change 1

○ Plan for MOPS

• Committee Coordination on Dynamic RNP (SC-214), and A-IM (SC-186).

• Plenary Review—MASPS/MOPS

○ Planned Work Schedule (Note, schedule subject to change based upon progress/pace/issue)

○ 9:00 a.m. to 4:00 p.m. each day

• Technical Requirements Breakout Sessions (as needed)

• Other Business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 12, 2014.
Paige Williams,
Management Analyst, NextGen, Business Operations Group, Federal Aviation Administration.

[FR Doc. 2014-03924 Filed 2-24-14; 8:45 am]

BILLING CODE 4910-13-P